DEPARTMENT OF COMMERCE

National Oceanic and Atmospheric Administration

Public Meeting for Recommending a National Estuarine Research Reserve Site in Connecticut's Lower Connecticut River and Eastern Long Island Sound

AGENCY: Office for Coastal Management, National Ocean Service, National Oceanic and Atmospheric Administration, U.S. Department of Commerce.

ACTION: Public meeting notice.

SUMMARY: Notice is hereby given that a public meeting will be held for the purpose of providing information and receiving comments on the preliminary recommendation by the State of Connecticut that portions of the Lower Connecticut River and Eastern Long Island Sound be proposed to NOAA for designation as a National Estuarine Research Reserve.

The public meeting will be held at 6 p.m. on November 13, 2018 in the Academic Building Auditorium at the University of Connecticut's Avery Point campus, located at 1084 Shennecossett Rd, Groton, CT 06340.

The state agencies holding the meeting: The Connecticut Department of Energy and Environmental Protection's Coastal Management Program; the University of Connecticut; and Connecticut Sea Grant. NOAA's Office for Coastal Management will assist with the meeting.

The proposed research reserve site is comprised of the following state-owned properties: Lord Cove Wildlife Management Area; Great Island Wildlife Management Area; Bluff Point State Park and Coastal Reserve and Natural Area Preserve; Haley Farm State Park; and the public trust portions of waterbodies defined by:

(a) Long Island Sound ranging approximately west to east from the mouth of the Connecticut River to Mason's Island and north to south waterward of the mean high water shoreline to just shy of the Connecticut state boundary in Long Island Sound;

(b) the area waterward of the mean high shoreline of the lower Thames River from approximately the Gold Star Bridge south to the area described in (a);

(c) the area waterward of the mean high shoreline of the lower Connecticut River from approximately Lord Cove south to the area described in (a).

The views of interested persons and organizations regarding the proposed site recommendation are solicited. This information may be expressed orally and in written statements. A presentation about the proposed site and the National Estuarine Research Reserve System will be provided. Written comments may be also be sent to: Kevin O'Brien, Connecticut Department of Energy and Environmental Protection—Land & Water Resources Division, 79 Elm Street, Hartford, CT 06106-5127 or to: kevin.obrien@ct.gov. All written comments must be received no later than seven calendar days following the public meeting. All comments received will be considered by the State in formally nominating a site to NOAA.

The research reserve system is a federal and state partnership program administered by the federal government, specifically the National Oceanic and Atmospheric Administration (NOAA). The research reserve system currently has 29 sites and protects more than 1.3 million acres of estuarine and Great Lakes habitat for long-term research, monitoring, education, and stewardship. Established by the Coastal Zone Management Act of 1972, each reserve is managed by a lead state agency or university, with input from local partners. NOAA provides partial funding and national programmatic guidance.

This particular site selection effort is a culmination of several years of local, grassroots-support for a research reserve site in Connecticut. The preliminary site recommendation follows a comprehensive evaluation process that sought the views of the public, affected landowners, and other interested parties. State and local agency representatives, as well as estuarine experts, served as committee members and evaluated site proposals. The committee is recommending the Lower Connecticut River and Eastern Long Island Sound as the preferred site for the state to nominate to NOAA.

FOR FURTHER INFORMATION CONTACT: Ms. Erica Seiden, Office for Coastal Management, National Ocean Service, NOAA, 1305 East West Highway, N/OCM, Silver Spring, MD 20910 or Email: erica.seiden@noaa.gov.

Persons with disabilities please contact Michelle MarcAurele at the University of Connecticut Avery Point campus by November 6, 2018 to make arrangements. Phone: 860-405-9115, Email: michelle.marcaurele@uconn.edu.

(Federal Domestic Assistance Catalog Number 11.420 (Coastal Zone Management) Research Reserves)

Dated: October 22, 2018.
Paul M. Scholz,
Associate Assistant Administrator for Management and CFO/CAO, Ocean Services and Coastal Zone Management.

[FR Doc. 2018-23607 Filed 10-29-18; 8:45 am]

BILLING CODE 3510-22-P